DEPARTMENT OF THE INTERIOR

National Park Service

[NPS-WASO-NAGPRA-14645; PPWOCRADN0-PCU00RP14.R50000]

Notice of Inventory Completion: U.S. Department of Agriculture, Forest Service, Coconino National Forest, Flagstaff, AZ, and the Arizona State Museum, University of Arizona, Tucson, AZ

AGENCY: National Park Service, Interior.

ACTION: Notice.

SUMMARY: The U.S. Department of Agriculture, Forest Service, Coconino National Forest and the Arizona State Museum, University of Arizona, have completed an inventory of human remains, in consultation with the appropriate Indian tribes, and have determined that there is a cultural affiliation between the human remains and a present-day Indian tribe. Lineal descendants or representatives of any Indian tribe not identified in this notice that wish to request transfer of control of these human remains should submit a written request to the U.S. Department of Agriculture, Forest Service, Southwestern Region. If no additional requestors come forward, transfer of control of the human remains to the Indian tribes stated in this notice may proceed.

DATES: Lineal descendants or representatives of any Indian tribe not identified in this notice that wish to request transfer of control of these human remains should submit a written request with information in support of the request to the U.S. Department of Agriculture, Forest Service, Southwestern Region at the address in this notice by February 18, 2014.

ADDRESSES: Dr. Frank E. Wozniak, NAGPRA Coordinator, Southwestern Region, USDA Forest Service, 333 Broadway Blvd. SE., Albuquerque, NM 87102, telephone (505) 842-3238, email fwozniak@fs.fed.us.

SUPPLEMENTARY INFORMATION: Notice is here given in accordance with the Native American Graves Protection and Repatriation Act (NAGPRA), 25 U.S.C. 3003, of the completion of an inventory of human remains under the control of the U.S. Department of Agriculture, Forest Service, Southwestern Region. The human remains were removed from the Big Park Ruin in Coconino County, AZ, and a site in the Sycamore Canyon Wilderness in the vicinity of Camp Verde, Yavapai County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the U.S. Department of Agriculture, Forest Service, Coconino National Forest, and the Arizona State Museum professional staffs in consultation with representatives of the Hopi Tribe of Arizona.

History and Description of the Remains

In 1927, human remains representing, at minimum, one individual were removed from Big Park Ruin (Verde:2:1(GP)), Coconino County, AZ, during legally authorized excavations conducted by Gila Pueblo Foundation. The remains were transferred to the Arizona State Museum in early 1950s at the demise of the Gila Pueblo Foundation. No known individual was identified. There are no funerary objects associated with these remains.

In 1994, human remains representing, at minimum, one individual were found by hikers at a site in the Sycamore Canyon Wilderness near Camp Verde, Yavapai County, AZ, and subsequently removed by the Yavapai County Sheriff's Office and curated at Arizona State Museum since 1997. No known individual was identified. There are no funerary objects associated with these remains.

Big Park Ruin is a cliff dwelling located in the vicinity of the present day Oak Creek, AZ. The characteristics of material culture at this site indicate that this cliff dwelling is associated with the archeologically defined Southern Sinagua culture of north central Arizona. The material culture, architecture, and site organization indicate that the site was occupied between A.D. 1050 and 1200.

The site in the Sycamore Canyon Wilderness near Camp Verde is a prehistoric burial location. Prehistoric sites in Sycamore Canyon are associated with the archeologically defined Southern Sinagua Culture of north central Arizona. These sites were occupied between A.D. 1000 and 1200.

The Southern Sinagua culture is considered to be ancestral to the Hopi Tribe of Arizona. Oral traditions presented by representatives of the Hopi Tribe support cultural affiliation.

Determinations Made by the U.S. Department of Agriculture, Forest Service, Southwestern Region

Officials of the U.S. Department of Agriculture, Forest Service, Southwestern Region have determined that:

• Pursuant to 25 U.S.C. 3001(9), the human remains described in this notice represent the physical remains of two individuals of Native American ancestry.

• Pursuant to 25 U.S.C. 3001(2), there is a relationship of shared group identity that can be reasonably traced between the Native American human remains and the Hopi Tribe of Arizona.

Additional Requestors and Disposition

Lineal descendants or representatives of any Indian tribe not identified in this notice that wish to request transfer of control of these human remains should submit a written request with information in support of the request to Dr. Frank E. Wozniak, NAGPRA Coordinator, Southwestern Region, USDA Forest Service, 333 Broadway Blvd. SE., Albuquerque, NM 87102, telephone (505) 842-3238, email fwozniak@fs.fed.us, by February 18, 2014. After that date, if no additional requestors have come forward, transfer of control of the human remains to the Hopi Tribe of Arizona may proceed.

The U.S. Department of Agriculture, Forest Service, Southwestern Region is responsible for notifying the Hopi Tribe of Arizona that this notice has been published.

Dated: December 12, 2013.
Melanie O'Brien,
Acting Manager, National NAGPRA Program.

[FR Doc. 2014-00793 Filed 1-15-14; 8:45 am]

BILLING CODE 4312-50-P